ENVIRONMENTAL PROTECTION AGENCY

[ER-FRL-8594-1]

Environmental Impacts Statements; Notice of Availability

Responsible Agency: Office of Federal Activities, General Information (202) 564-1399 or http://www.epa.gov/compliance/nepa/.

Weekly Receipt of Environmental Impact Statements

Filed 05/25/2009 Through 05/29/2009

Pursuant to 40 CFR 1506.9.

EIS No. 20090175, Final EIS, NRC, 00, GENERIC—In-Situ Leach Uranium Milling Facilities (NUREG-1910), Construction, Operation, Aquifer Restoration and Decommissioning, Potentially Location in Portions of WY, NE, SD and NM, Wait Period Ends: 07/06/2009, Contact: James Park 301-415-6935.

EIS No. 20090176, Draft EIS, FHW, WA, WA-502 Corridor Widening Project, Proposes Improvements to Five Miles of WA-502 (NE-219th Street) between NE. 15th Avenue and NE. 102nd Avenue, Funding, Clark County, WA, Comment Period Ends: 07/20/2009, Contact: Dean Moberg 360-534-9344.

EIS No. 20090177, Draft EIS, AFS, CA, Lassen National Forest, Motorized Travel Management Plan, Implementation, Butte, Lassen, Modoc, Plumas, Shasta, Siskiyou, Tehama Counties, CA, Comment Period Ends: 07/20/2009, Contact: Christopher O'Brien 530-257-2151.

EIS No. 20090178, Draft EIS, IBR, CA, North Bay Water Recycling Program (NBWRP), (Formerly North San Pablo Bay Restoration and Reuse Project), Proposed to Promote the Expanded Beneficial Use of Recycled Water, Northern Marin Water District, Napa County, CA, Comment Period Ends: 07/20/2009, Contact: David White 916-978-5074.

EIS No. 20090179, Draft EIS, AFS, CA, Klamath National Forest Motorized Route Designation, Motorized Travel Management, (Formerly Motorized Route Designation), Implementation, Siskiyou County, CA, Comment Period Ends: 07/20/2009, Contact: Jan Ford 530-842-6131.

EIS No. 20090180, Final EIS, STA, 00, Alberta Clipper Pipeline Project, Application for a Presidential Permit to Construction, Operation and Maintenance of Facilities in ND, MN and WI, Wait Period Ends: 07/06/2009, Contact: Elizabeth Orlando 202-647-4284.

EIS No. 20090181, Draft EIS, AFS, CA, Lower Trinity and Mad River Motorized Travel Management, Proposed to Prohibit Cross-County Motor Vehicle Travel Off Designated National Forest Transportation System (NFTS) Roads and Motorized Trails, Six River National Forest, CA, Comment Period Ends: 07/20/2009, Contact: Leslie Burkhart 707-441-3520.

EIS No. 20090182, Final EIS, USA, HI, Makua Military Reservation (MMR) Project, Proposed Military Training Activities, To Conduct the Necessary Type, Level, Duration, and Intensity of Live-Fire and Other Military Training Activities, in Particular Company-Level Combined-Arms, Live-Fire Exercises (CALFEX), 25th Infantry Division (Light) and U.S. Army, HI, Wait Period Ends: 07/06/2009, Contact: Kristin Evenstad 703-692-6427.

Amended Notices

EIS No. 20090048, Draft EIS, AFS, MT, Montanore Project, Proposes to Construct a Copper and Silver Underground Mine and Associated Facilities, Including a New Transmission Line, Plan-of-Operation Permit, Kootenai National Forest, Sanders County, MT, Comment Period Ends: 06/29/2009, Contact: Bobbie Lacklen 406-283-7681.

Revision to FR Notice Published 02/27/2009: Correction to Extending Comment Period from 07/27/2009 to 06/29/2009.

EIS No. 20090088, Draft EIS, BLM, UT, Greens Hollow Coal Lease Tract Project, Proposed Federal Coal Leasing and Subsequent Underground Coal Mining, Funding and Lease Application, Fishlake and Manti-La Sal National Forest, Sanpete and Sevier Counties, UT, Comment Period Ends: 06/01/2009, Contact: Steve Rigby 435-636-3604.

Revision to FR Notice Published 04/03/2009: Extending Comment from 05/18/2009 to 06/01/2009.

EIS No. 20090113, Draft EIS, AFS, 00, Ashley National Forest Motorized Travel Plan, To Improve Management of Public Summer Motorized Use by Designating Roads and Motorized Trails and Limiting Dispersed Camping to Areas, Duchesne, Daggett, Uintah Counties, Utah and Sweetwater County, Wyoming, Comment Period Ends: 07/16/2009, Contact: Lesley Tullis 435-781-5137.

Revision to FR Notice Published 04/17/2009: Extending Comment Period from 06/01/2009 to 07/16/2009.

EIS No. 20090173, Draft EIS, UCG, 00, Goethals Bridge Replacement Project, Construction of Bridge across the Arthur Kill between Staten Island New York and Elizabeth, New Jersey, Funding and USCG Bridge Permit, NY and NJ, Comment Period Ends: 07/28/2009, Contact: Shelly Sugarman 202-372-1521.

Revision to FR Published 05/29/2009: Extending Comment Period from 07/13/2009 to 07/28/2009.

Dated: June 2, 2009.
Robert W. Hargrove,
Director, NEPA Compliance Division, Office of Federal Activities.

[FR Doc. E9-13159 Filed 6-4-09; 8:45 am]

BILLING CODE 6560-50-P